DEPARTMENT OF STATE

[Public Notice: 11598]

Designation of Sanaullah Ghafari, Sultan Aziz Azam, and Maulawi Rajab as Specially Designated Global Terrorists

Acting under the authority of and in accordance with section 1(a)(ii)(B) of E.O. 13224 of September 23, 2001, as amended by E.O. 13268 of July 2, 2002, E.O. 13284 of January 23, 2003, and E.O. 13886 of September 9, 2019, I hereby determine that (a) the person known as Sanaullah Ghafari, also known as Shahab al-Muhajir; (b) the person known as Sultan Aziz Azam, also known as Sultan Aziz; and (c) the person known as Maulawi Rajab, also known as Maulawi Rajab Salahudin, are leaders of ISIL-Khorasan, a group whose property and interests in property are concurrently blocked pursuant to a determination by the Secretary of State pursuant to E.O. 13224.

Consistent with the determination in section 10 of E.O. 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Authority: E.O. 13224.

Dated: November 12, 2021.
Antony J. Blinken,
Secretary of State.

[FR Doc. 2021-26098 Filed 11-30-21; 8:45 am]

BILLING CODE 4710-AD-P